DEPARTMENT OF AGRICULTURE

Natural Resources Conservation Service

Notice of Request for Extension and Revision of a Currently Approved Information Collection

AGENCY: Natural Resources Conservation Service (NRCS), USDA.

ACTION: Notice; correction.

SUMMARY: The Natural Resources Conservation Service (NRCS) published in the Federal Register notice of November 8, 2005 (70 FR 67658), a document stating “Notice of Intent to Extend a Currently Approved Information Collection.” This notice corrects the previously published document. In accordance with the Paperwork Reduction Act of 1995 (44 U.S.C. Chapter 35), this notice announces the intention of NRCS to request an extension for, and a revision to, the currently approved information collection Volunteer Program—Earth Team. The collected information will help NRCS to match the skills of individuals who are applying for volunteer work that will further the Agency's mission. Information will be collected from potential volunteers who are 14 years of age or older.

DATES: Comments on this notice must be received within 60 days after publication in the Federal Register to be assured of consideration.

FOR FURTHER INFORMATION CONTACT: Contact Michele Eginoire, National Earth Team Office, Natural Resources Conservation Service, Suite C, 5140 Park Avenue, Des Moines, Iowa 50321; telephone: (515) 289-0325, extension 102; fax: (515) 289-4561; e-mail: Michele.Eginoire@ia.usda.gov.

SUPPLEMENTARY INFORMATION: Collection of this information is necessary to document the service of volunteers as required by Federal Personnel Manual Supplement 296-33, Subchapter 3. Agencies are authorized to recruit, train, and accept, with regard to civil service classification laws, rules or regulations, the services of individuals to serve without compensation. Volunteers may assist in any Agency program/project, and may perform any activities which Agency employees are allowed to conduct. Volunteers must be at least 14 years of age. Persons interested in volunteering will have to write, call, e-mail, visit an NRCS office, or visit the E-Gov Web site to complete and submit the forms.

Title: Volunteer Program—Earth Team.

OMB Number: 0578-0024.

Expiration Date of Approval: March 31, 2006.

Type of Request: Revision of a currently approved collection.

Description of Information Collection: NRCS-PER-001, Volunteer Application, and the NRCS-PER-003, Agreement for Sponsored Voluntary Services, are the volunteer application forms. After one of these forms is signed by the volunteer group leader and the NRCS representative, the individual or group is enrolled in the NRCS volunteer program. The forms provide contact information for the volunteer, emergency contact information, and a job description. This form is placed in a volunteer “case file” and will be destroyed 3 years after the volunteer has completed service. In the event that the volunteer is injured, the “case file” will be transferred to an Official Personnel Folder (OPF). NRCS-PER-002, Volunteer Interest and Placement Summary, is an optional form that assists the volunteer supervisor in placing the volunteer in a position that will benefit the Agency and the volunteer. The aforementioned form is placed in a volunteer “case file” and will be destroyed 3 years after the volunteer has completed service. In the event that the volunteer is injured, the “case file” will be transferred to an OPF. NRCS-PER-004, Time and Attendance, is an optional form that assists the volunteer supervisor in documenting hours worked by the volunteer, and may be used to substantiate a Workers' Compensation Claim. This form is placed in a volunteer “case file” and will be destroyed 3 years after the volunteer has completed service. In the event that the volunteer is injured, the “case file” will be transferred to an OPF.

Estimate of Burden: Public reporting burden for this collection of information is estimated to average 36 minutes per response.

Respondents: Retirees, students, persons with disabilities, or senior citizens.

Estimated Number of Respondents: 22,260.

Estimated Number of Responses per Respondent: 5.

Estimated Total Annual Burden on Respondents: 788.

Comments are invited on: (1) Whether the proposed collection of information is necessary for the proper performance of the functions of the Agency, including whether the information will have practical utility; (2) the accuracy of the Agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Michele Eginoire, National Earth Team Office, Natural Resources Conservation Service, Suite C, 5140 Park Avenue, Des Moines, Iowa 50321; telephone: (515) 289-0325, extension 102; fax: (515) 289-4561; e-mail: Michele.Eginoire@ia.usda.gov. All comments received will be available for public inspection during regular business hours at the same address.

All responses to this notice will be summarized and included in the request for OMB approval. All comments also will become a matter of public record.

Signed in Washington, DC on January 24, 2006.
Bruce I. Knight,
Chief, Natural Resources Conservation Service.

[FR Doc. 06-867 Filed 1-27-06; 8:45 am]

BILLING CODE 3410-16-P